DEPARTMENT OF ENERGY

Federal Energy Regulatory Commission

[Docket No. RP00-332-006]

ANR Pipeline Company; Notice of Revised Tariff Sheet

June 6, 2003.

Take notice that on June 4, 2003, ANR Pipeline Company, (ANR) tendered for filing a revised tariff sheet to correct an inadvertent error on proposed Third Revised Tariff Sheet No. 99. The correction preserves the right of ANR and a Shipper to agree that the Shipper shall have the right to change its primary point to another primary point at a discounted rate.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 16, 2003.

Magalie R. Salas,
Secretary.

[FR Doc. 03-14893 Filed 6-11-03; 8:45 am]

BILLING CODE 6717-01-P